DEPARTMENT OF TRANSPORTATION

Federal Aviation Administration

14 CFR Part 39

[Docket No. FAA-2023-1037; Project Identifier AD-2023-00511-T]

RIN 2120-AA64

Airworthiness Directives; The Boeing Company Airplanes

AGENCY: Federal Aviation Administration (FAA), DOT.

ACTION: Supplemental notice of proposed rulemaking (SNPRM).

SUMMARY: The FAA is revising a notice of proposed rulemaking (NPRM) to supersede Airworthiness Directive (AD) 2020-26-08. AD 2020-26-08 applies to The Boeing Company Model 787-8, 787-9, and 787-10 airplanes powered by Rolls-Royce Trent 1000 engines. This action revises the NPRM by proposing replacement of an additional upper splitter fairing assembly. The FAA is proposing this AD to address the unsafe condition on these products. Since these actions would impose an additional burden over those in the NPRM, the FAA is requesting comments on this SNPRM.

DATES: The FAA must receive comments on this SNPRM by December 15, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1037; or in person at Docket Operations between 9 a.m. and 5 p.m., Monday through Friday, except Federal holidays. The AD docket contains this SNPRM, any comments received, and other information. The street address for Docket Operations is listed above.

Material Incorporated by Reference:

• For service information identified in this SNPRM, contact Boeing Commercial Airplanes, Attention: Contractual & Data Services (C&DS), 2600 Westminster Boulevard, MC 110-SK57, Seal Beach, CA 90740-5600; telephone 562-797-1717; website: myboeingfleet.com.

• You may view this service information at the FAA, Airworthiness Products Section, Operational Safety Branch, 2200 South 216th St., Des Moines, WA. For information on the availability of this material at the FAA, call 206-231-3195. It is also available at regulations.gov by searching for and locating Docket No. FAA-2023-1037.

FOR FURTHER INFORMATION CONTACT: Tak Kobayashi, Aviation Safety Engineer, FAA, 2200 South 216th St., Des Moines, WA 98198; phone: 206-231-3553; email: takahisa.kobayashi@faa.gov.

SUPPLEMENTARY INFORMATION:

Comments Invited

The FAA invites you to send any written relevant data, views, or arguments about this proposal. Send your comments to an address listed under ADDRESSES. Include “Docket No. FAA-2023-1037; Project Identifier AD-2023-00511-T” at the beginning of your comments. The most helpful comments reference a specific portion of the proposal, explain the reason for any recommended change, and include supporting data. The FAA will consider all comments received by the closing date and may again revise this proposal because of those comments.

Except for Confidential Business Information (CBI) as described in the following paragraph, and other information as described in 14 CFR 11.35, the FAA will post all comments received, without change, to regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Tak Kobayashi, Aviation Safety Engineer, FAA, 2200 South 216th St., Des Moines, WA 98198; phone: 206-231-3553; email: takahisa.kobayashi@faa.gov. Any commentary that the FAA receives that is not specifically designated as CBI will be placed in the public docket for this rulemaking.

Background

The FAA issued an NPRM to amend 14 CFR part 39 by adding an AD to supersede AD 2020-26-08, Amendment 39-21363 (85 FR 83755, December 23, 2020) (AD 2020-26-08). AD 2020-26-08 applies to The Boeing Company Model 787-8, 787-9, and 787-10 airplanes powered by Rolls-Royce Trent 1000 engines. AD 2020-26-08 requires repetitive inspections of the inner fixed structure (IFS) forward upper fire seal and thermal insulation blankets in the forward upper area of the thrust reverser (TR) for damage and applicable on-condition actions.

The NPRM published in the Federal Register on May 25, 2023 (88 FR 33851). The NPRM was prompted by a determination that a new upper splitter fairing assembly is needed to prevent damage to the fire seal and thermal insulation blanket. In the NPRM, the FAA proposed to continue to require the actions specified in AD 2020-26-08 and proposed to require determining if an affected part number of the upper splitter fairing assembly is installed on the engine, replacing an affected upper splitter fairing assembly part number with a new upper splitter fairing assembly part number, inspecting the IFS forward upper fire seal and thermal insulation blanket for any damage, and applicable on-condition actions. This NPRM also proposed to prohibit the installation of affected parts.

Actions Since the NPRM Was Issued

Since the FAA issued the NPRM, the FAA identified an additional affected upper splitter fairing assembly part number (P/N) that must be replaced to address the unsafe condition. The NPRM proposed to require, among other actions, replacing upper splitter fairing assembly P/N KH60375. However, as explained in the “Request to Add Part Number” discussion below, P/N KH11560 is also subject to the unsafe condition.

Comments

The following discussion presents the comments received on the NPRM and the FAA's response.

Support

The Air Line Pilots Association, International supported the NPRM without change.

Request To Add a Part Number

Boeing requested that the FAA revise all references of P/N KH60375 to both P/N KH60375 and KH11560. Boeing stated that P/N KH11560 is the original approved configuration of the upper splitter fairing and is still in use in service; P/N KH60375 is the configuration introduced after P/N KH11560.

The FAA agrees. Upper splitter fairing assembly P/N KH11560 is similar in design to P/N KH60375 and does not have a design feature to address the unsafe condition. Although Rolls Royce Alert Service Bulletin Trent 1000 72-AK759, dated July 28, 2022 (which is the service information referenced in Boeing Alert Requirements Bulletin B787-81205-SB720007-00 RB, Issue 001, dated December 12, 2022), only specifies removing and replacing upper splitter fairing assembly P/N KH60375, the FAA contacted Boeing and confirmed that those same procedures can also be used to remove and replace P/N KH11560. The FAA has revised paragraphs (i)(1) and (2) of this proposed AD to refer to both P/N KH60375 and P/N KH11560. In addition, the FAA added paragraph (j)(2) to this proposed AD to clarify that although the service information referenced in Boeing Alert Requirements Bulletin B787-81205-SB720007-00 RB, Issue 001, dated December 12, 2022, does not specify both part numbers, this AD requires removing existing upper splitter fairing assembly P/N KH60375 or P/N KH11560. Lastly, the FAA revised the parts installation prohibition in paragraph (k) of this proposed AD to refer to both P/N KH60375 and P/N KH11560.

Request To Clarify the Parts Installation Prohibition

An individual requested that the FAA change the part installation prohibition in paragraph (k) of the proposed AD from the airframe level to the engine level. The commenter stated that operators of airplanes powered by Trent 1000 engines continue to comply with European Union Aviation Safety Agency (EASA) AD 2019-0099 ¹ and that engines removed as part of the de-pair requirement of the EASA AD do not always have a long lead time for accomplishing the upper splitter fairing modification and do not always undergo a shop visit. The commenter further requested that the FAA allow the compliance time for the retained inspections in paragraph (g) of this proposed AD to “restart” if an engine with upper splitter fairing assembly P/N KH99185 is replaced by another engine with upper splitter fairing assembly P/N KH60375.

¹ EASA subsequently revised its AD and issued EASA AD 2019-0099R2, dated September 6, 2019. As a result, the FAA issued AD 2020-05-01, Amendment 39-21102 (85 FR 13727, March 10, 2020).

The FAA disagrees with the changes to the proposed AD requested by the commenter. Paragraph (k) of this proposed AD is intended to address a rotability issue: an operator might take an affected part from another airplane or from an operator's spare parts and unknowingly install it on an airplane or engine without the affected part, which would introduce the unsafe condition onto that airplane or engine. The final configuration intended by this proposed AD is an airplane with both engines that have an airworthy upper splitter fairing assembly installed.

Paragraph (k)(1) of this proposed AD would impose the parts installation prohibition on airplanes with original airworthiness certificate or original export certificate of airworthiness issued after the effective date of this AD, except for airplanes listed in Boeing Alert Requirements Bulletin B787-81205-SB720007-00 RB, Issue 001, dated December 12, 2022. This proposed prohibition at the airplane level would prevent introducing the unsafe condition onto airplanes that have the final configuration intended by the AD at the time of airplane delivery. Therefore, the FAA has not revised paragraph (k)(1) of this proposed AD.

However, the FAA has revised paragraph (k)(2) of this proposed AD to simplify the installation prohibition for airplanes on which it is determined no affected parts are installed during the actions required by paragraph (i)(1) of this proposed AD.

Request To Clarify Terminology

Boeing requested the FAA correct the text in paragraph (j) of the proposed AD from “the original issue date of Requirements Bulletin B787-81205-SB720007-00 RB” to “the issue 001 date of Requirements Bulletin B787-81205-SB720007-00 RB.” Boeing stated that table in the “Compliance” paragraph of Boeing Alert Requirements Bulletin B787-81205-SB720007-00 RB, Issue 001, dated December 12, 2022, does not use the phrase quoted in the proposed AD.

The FAA agrees and has revised paragraph (j) of this proposed AD accordingly.

Request To Fix Typographical Error

Boeing requested the FAA correct the phrase under “Differences between This proposed AD and the Service Information” in the NPRM from “all Boeing Model 787-7, -8, and -9 airplanes” to “all Boeing Model 787-8, -9, and -10 airplanes.” Boeing stated this is a typographical error because the applicable Boeing airplanes are Model 787-8, -9, and -10.

The FAA agrees and has revised the preamble text accordingly.

FAA's Determination

The FAA is proposing this AD after determining the unsafe condition described previously is likely to exist or develop in other products of the same type design. Certain changes described above expand the scope of the NPRM. As a result, it is necessary to reopen the comment period to provide additional opportunity for the public to comment on this SNPRM.

Related Service Information Under 1 CFR Part 51

The FAA reviewed Boeing Alert Requirements Bulletin B787-81205-SB720007-00 RB, Issue 001, dated December 12, 2022. This service information specifies replacing the upper splitter fairing assembly with a new upper splitter fairing assembly with ramp fairing incorporated and doing a general visual inspection of the IFS forward upper fire seal and thermal insulation blanket of the left and right TR halves for any damage. This service information also specifies applicable on-condition actions, including replacing the IFS forward upper fire seal and thermal insulation blanket of each TR half if damage is found. The procedures in the service information apply to each affected engine.

The FAA also reviewed Boeing Alert Requirements Bulletin B787-81205-SB780041-00, Issue 002, dated December 21, 2021. This service information contains procedures for repetitive inspections of the IFS forward upper fire seal and thermal insulation blanket of the left and right TR halves for any damage. This service information also specifies applicable on-condition actions, including replacing the IFS forward upper fire seal and thermal insulation blanket of each TR half if damage is found. The procedures in the service information apply to each affected engine.

This proposed AD would also require Boeing Alert Requirements Bulletin B787-81205-SB780041-00 RB, Issue 001, dated March 31, 2020, which the Director of the Federal Register approved for incorporation by reference as of January 27, 2021 (85 FR 83755, December 23, 2020).

This service information is reasonably available because the interested parties have access to it through their normal course of business or by the means identified in ADDRESSES.

Proposed AD Requirements in This SNPRM

This proposed AD would retain all requirements of AD 2020-26-08. Accomplishing the new actions proposed in this AD would terminate the requirements of AD 2020-26-08.

This proposed AD would require accomplishing the actions specified in the service information already described, except as discussed under “Differences Between this Proposed AD and the Service Information” and except for any differences identified as exceptions in the regulatory text of this proposed AD. This proposed AD would also prohibit the installation of affected parts. With this SNPRM, the FAA is proposing replacement of an additional upper splitter fairing assembly. For information on the procedures and compliance times, see this service information at regulations.gov under Docket No. FAA-2023-1037.

Differences Between This Proposed AD and the Service Information

The effectivity of Boeing Alert Requirements Bulletin B787-81205-SB720007-00 RB, Issue 001, dated December 12, 2022, is limited to Model 787-8, -9 and -10 airplanes having certain line numbers. However, the applicability of this proposed AD includes all Boeing Model 787-8, -9, and -10 airplanes with Rolls-Royce Trent 1000 engines installed. Because the affected upper splitter fairing assembly are rotable parts, the FAA has determined that these parts could later be installed on airplanes that were initially delivered with acceptable upper splitter fairing assembly, thereby subjecting those airplanes to the unsafe condition. The FAA has determined that the Accomplishment Instructions in Boeing Alert Requirements Bulletin B787-81205-SB720007-00 RB, Issue 001, dated December 12, 2022, can be applied to airplanes outside the effectivity of the service information if an affected part is installed on those airplanes. This proposed AD includes an inspection or records review to determine if an affected part is installed.

Costs of Compliance

The FAA estimates that this AD, if adopted as proposed, would affect 13 airplanes of U.S. registry. The FAA estimates the following costs to comply with this proposed AD:

Estimated Costs
Action | Labor cost | Parts cost | Cost per product | Cost on U.S. operators
Inspection (retained actions from AD 2020-26-08) | 2 work-hours × $85 per hour = $170 per inspection cycle | $0 | $170 per inspection cycle | $2,210 per inspection cycle.
Inspection or records review (new proposed action) | 1 work-hour × $85 per hour = $85 | 0 | $85 | $1,105.
Replacement of each upper splitter fairing assembly (new proposed action) | 71 work-hours × $85 per hour = $6,035 | 230,000 | $236,035 | $3,068,455.
Inspection (new proposed action) | 2 work-hours × $85 per hour = $170 | 0 | $170 | $2,210.

The FAA estimates the following costs to do any necessary replacements that would be required based on the results of the proposed inspection. The agency has no way of determining the number of aircraft that might need these replacements:

On-Condition Costs
Action | Labor cost | Parts cost | Cost per product
Fire seal replacement | 2 work-hours × $85 per hour = $170 per TR half | $1,383 per TR half | $1,553 per TR half (4 TR halves per airplane).
Thermal insulation blanket replacement | 1 work-hour × $85 per hour = $85 per TR half | $18,214 per TR half | $18,299 per TR half.

According to the manufacturer, some of the costs of this proposed AD may be covered under warranty by Goodrich, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. “Subtitle VII: Aviation Programs” describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-26-08, Amendment 39-21363 (85 FR 83755, December 23, 2020); and

b. Adding the following new AD:

The Boeing Company: Docket No. FAA-2023-1037; Project Identifier AD-2023-00511-T.

(a) Comments Due Date

The FAA must receive comments on this airworthiness directive (AD) by December 15, 2023.

(b) Affected ADs

This AD replaces AD 2020-26-08, Amendment 39-21363 (85 FR 83755, December 23, 2020) (AD 2020-26-08).

(c) Applicability

This AD applies to The Boeing Company Model 787-8, 787-9, and 787-10 airplanes, certificated in any category, with Rolls-Royce Trent 1000 engines installed.

(d) Subject

Air Transport Association (ATA) of America Code 72, Turbine/turboprop engine.

(e) Unsafe Condition

This AD was prompted by reports of Rolls-Royce Trent 1000 powered airplanes having damage to the thrust reverser inner fixed structure (IFS) forward upper fire seal and damage to thermal insulation blankets in the forward upper area of the thrust reverser (TR). The FAA is issuing this AD to address the damage to the IFS forward upper fire seal and the thermal insulation blankets of the TR due to airflow through structural gapping that could occur at the interface between the leading edge of the IFS and the engine splitter structure during flight. Failure of the IFS forward upper fire seal could cause the loss of seal pressurization and degrade the ability to detect and extinguish an engine fire, resulting in an uncontrolled fire. Damage to the TR insulation blanket could result in thermal damage to the TR inner wall, the subsequent release of engine exhaust components, and consequent damage to critical areas of the airplane. Furthermore, damage to the TR inner wall and IFS forward upper fire seal could compromise the integrity of the firewall and its ability to contain an engine fire, resulting in an uncontrolled fire.

(f) Compliance

Comply with this AD within the compliance times specified, unless already done.

(g) Retained Actions, With Additional Service Information, Revised Affected Airplanes, and New Terminating Action

This paragraph restates the requirements of paragraph (g) of AD 2020-26-08, with additional service information, revised affected airplanes, and new terminating action. For airplanes with an original airworthiness certificate or original export certificate of airworthiness issued on or before the effective date of this AD and for airplanes listed in the “Effectivity” section of Boeing Alert Requirements Bulletin B787-81205-SB720007-00 RB, Issue 001, dated December 12, 2022: Except as specified by paragraph (h) of this AD, at the applicable times specified in the “Compliance” paragraph of Boeing Alert Requirements Bulletin B787-81205-SB780041-00 RB, Issue 001, dated March 31, 2020, or Boeing Alert Requirements Bulletin B787-81205-SB780041-00, Issue 002, dated December 21, 2021, do all applicable actions identified in, and in accordance with, the Accomplishment Instructions of Boeing Alert Requirements Bulletin B787-81205-SB780041-00 RB, Issue 001, dated March 31, 2020, or Boeing Alert Requirements Bulletin B787-81205-SB780041-00, Issue 002, dated December 21, 2021. Accomplishing the actions required by paragraph (i)(2) of this AD terminates the actions required by this paragraph.

Note 1 to paragraph (g): Guidance for accomplishing the actions required by paragraph (g) of this AD can be found in Boeing Alert Service Bulletin B787-81205-SB780041-00, Issue 001, dated March 31, 2020, which is referred to in Boeing Alert Requirements Bulletin B787-81205-SB780041-00 RB, Issue 001, dated March 31, 2020; or in Boeing Alert Service Bulletin B787-81205-SB780041-00, Issue 002, dated December 21, 2021, which is referred to in Boeing Alert Requirements Bulletin B787-81205-SB780041-00, Issue 002, dated December 21, 2021.

(h) Retained Exceptions to Service Information Specifications for Paragraph (g) of This AD, With Additional Service Information

This paragraph restates the exceptions specified in paragraph (h) of AD 2020-26-08, with additional service information. Where Boeing Alert Requirements Bulletin B787-81205-SB780041-00 RB, Issue 001, dated March 31, 2020, or Boeing Alert Requirements Bulletin B787-81205-SB780041-00, Issue 002, dated December 21, 2021, uses the phrase “the Issue 001 date of Requirements Bulletin B787-81205-SB780041-00 RB,” this AD requires using January 27, 2021, (the effective date of AD 2020-26-08).

(i) New Required Actions

(1) For airplanes with original airworthiness certificate or original export certificate of airworthiness issued on or before the effective date of this AD and for airplanes listed in the “Effectivity” section of Boeing Alert Requirements Bulletin B787-81205-SB720007-00 RB, Issue 001, dated December 12, 2022: Within 7 years after the effective date of this AD, or within 7 years after the date of issuance of the original airworthiness certificate or original export certificate of airworthiness, whichever occurs later, inspect the airplane to determine the part number of the upper splitter fairing assembly installed on each engine. A review of airplane maintenance records is acceptable in lieu of this inspection if the part number of the upper splitter fairing assembly can be conclusively determined from that review. For engines on which no upper splitter fairing assembly part number (P/N) KH60375 or P/N KH11560 is installed, the actions required by paragraph (g) of this AD are no longer required for that engine.

(2) If, during any inspection or records review required by paragraph (i)(1) of this AD, an upper splitter fairing assembly P/N KH60375 or P/N KH11560 is found on any engine of an airplane: Except as specified by paragraph (j) of this AD, at the applicable times specified in the “Compliance” paragraph of Boeing Alert Requirements Bulletin B787-81205-SB720007-00 RB, Issue 001, dated December 12, 2022, do all applicable actions identified in, and in accordance with, the Accomplishment Instructions of Boeing Alert Requirements Bulletin B787-81205-SB720007-00 RB, Issue 001, dated December 12, 2022, for each affected engine. Accomplishing the actions required by this paragraph on all affected engines of an airplane terminates the actions required by paragraph (g) of this AD for that airplane.

Note 2 to paragraph (i)(2): Guidance for accomplishing the actions required by paragraph (i)(2) of this AD can be found in Boeing Alert Service Bulletin B787-81205-SB720007-00, Issue 001, dated December 12, 2022, which is referred to in Boeing Alert Requirements Bulletin B787-81205-SB720007-00 RB, Issue 001, dated December 12, 2022.

(j) Exceptions to Service Information Specifications for Paragraph (i)(2) of This AD

(1) Where the “Compliance Time column of table 5 in the “Compliance” paragraph of Boeing Alert Requirements Bulletin B787-81205-SB720007-00 RB, Issue 001, dated December 12, 2022, uses the phrase “the Issue 001 date of Requirements Bulletin B787-81205-SB720007-00 RB,” this AD requires using “the effective date of this AD.”

(2) Where the service information referenced in Boeing Alert Requirements Bulletin B787-81205-SB720007-00 RB, Issue 001, dated December 12, 2022, specifies to remove the existing upper splitter fairing assembly P/N KH60375, this AD requires removing the existing upper splitter fairing assembly P/N KH60375 or P/N KH11560.

(k) Parts Installation Prohibition

(1) For airplanes with an original airworthiness certificate or original export certificate of airworthiness issued after the effective date of this AD, except for airplanes listed in Boeing Alert Requirements Bulletin B787-81205-SB720007-00 RB, Issue 001, dated December 12, 2022: As of the effective date of this AD, no person may install an engine with an upper splitter fairing assembly P/N KH60375 or P/N KH11560 on any airplane.

(2) For airplanes with original airworthiness certificate or original export certificate of airworthiness issued on or before the effective date of this AD and for airplanes listed in Boeing Alert Requirements Bulletin B787-81205-SB720007-00 RB, Issue 001, dated December 12, 2022, on which, during the actions required by paragraph (i)(1) of this AD, no upper splitter fairing assembly P/N KH60375 or P/N KH11560 was installed on both engines: After accomplishing the inspection or records review required by paragraph (i)(1) of this AD, no person may install an engine with an upper splitter fairing assembly P/N KH60375 or P/N KH11560 for replacement of an engine on those airplanes.

(l) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of AIR-520, Continued Operational Safety Branch, send it to the attention of the person identified in paragraph (m) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, to make those findings. To be approved, the repair method, modification deviation, or alteration deviation must meet the certification basis of the airplane, and the approval must specifically refer to this AD.

(m) Related Information

For more information about this AD, contact Tak Kobayashi, Aviation Safety Engineer, FAA, 2200 South 216th St., Des Moines, WA 98198; phone: 206-231-3553; email: takahisa.kobayashi@faa.gov.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on [DATE 35 DAYS AFTER PUBLICATION OF THE FINAL RULE].

(i) Boeing Alert Requirements Bulletin B787-81205-SB720007-00 RB, Issue 001, dated December 12, 2022.

(ii) Boeing Alert Requirements Bulletin B787-81205-SB780041-00, Issue 002, dated December 21, 2021.

(4) The following service information was approved for IBR on January 27, 2021 (85 FR 83755, December 23, 2020).

(i) Boeing Alert Requirements Bulletin B787-81205-SB780041-00 RB, Issue 001, dated March 31, 2020.

(ii) [Reserved]

(5) For service information identified in this AD, contact Boeing Commercial Airplanes, Attention: Contractual & Data Services (C&DS), 2600 Westminster Boulevard, MC 110-SK57, Seal Beach, CA 90740-5600; telephone 562-797-1717; website: myboeingfleet.com.

(6) You may view this service information at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on October 19, 2023.
Caitlin Locke,
Director, Compliance & Airworthiness Division, Aircraft Certification Service.

[FR Doc. 2023-23520 Filed 10-30-23; 8:45 am]

BILLING CODE 4910-13-P